FEDERAL MARITIME COMMISSION

Notice of Agreement Filed

The Commission hereby gives notice of the filing of the following agreement under the Shipping Act of 1984. Interested parties may submit comments on the agreement to the Secretary, Federal Maritime Commission, Washington, DC 20573, within twelve days of the date this notice appears in the Federal Register. A copy of the agreement is available through the Commission's Web site (www.fmc.gov) or by contacting the Office of Agreements at (202)-523-5793 or tradeanalysis@fmc.gov.

Agreement No.: 012394.

Title: CMA CGM/APL Asia-U.S. West Coast Space Charter Agreement.

Parties: CMA CGM S.A. and APL Co. Pte. Ltd./American President Lines, Ltd. (collectively “APL”).

Filing Party: Draughn B. Arbona, Esq; CMA CGM (America) LLC; 5701 Lake Wright Drive; Norfolk, VA 23502.

Synopsis: The agreement authorizes CMA CGM to charter space to APL in the trade between the U.S. West Coast on the one hand, and China and Japan, on the other hand.

By Order of the Federal Maritime Commission.
Dated: March 4, 2016.
Karen V. Gregory,
Secretary.

[FR Doc. 2016-05276 Filed 3-8-16; 8:45 am]

BILLING CODE 6731-AA-P